DEPARTMENT OF THE INTERIOR

National Park Service

[NPS-WASO-BSD-FEES-21785; PX.XBSAD0096.00.1]

Proposed Information Collection; The Interagency Access Pass and Senior Pass Application Processes

AGENCY: National Park Service, Interior.

ACTION: Notice; request for comments.

SUMMARY: We (National Park Service, NPS) will ask the Office of Management and Budget (OMB) to approve the information collection (IC) described below. As required by the Paperwork Reduction Act of 1995 and as part of our continuing efforts to reduce paperwork and respondent burden, we invite the general public and other Federal agencies to take this opportunity to comment on this IC. This information collection is scheduled to expire on May 31, 2017. We may not conduct or sponsor and a person is not required to respond to a collection of information unless it displays a currently valid OMB Control Number.

DATES: You must submit comments on or before October 28, 2016.

ADDRESSES: Send your comments on the IC to Madonna L. Baucum, Information Collection Clearance Officer, National Park Service, 12201 Sunrise Valley Drive (MS-242), Reston, VA 20192 (mail); or madonna_baucum@nps.gov (email). Please reference OMB Control Number 1024-0252 in the subject line of your comments.

FOR FURTHER INFORMATION CONTACT: To request additional information about this IC, contact Brooke Linford by email at brooke_linford@nps.gov, or at (202) 513-7139 (telephone).

SUPPLEMENTARY INFORMATION:

I. Abstract

The America the Beautiful—National Parks and Federal Recreation Lands Pass Program covers recreation opportunities on public lands managed by four Department of the Interior agencies—the National Park Service, U.S. Fish and Wildlife Service, Bureau of Land Management, and the Bureau of Reclamation—and by the Department of Agriculture's U.S. Forest Service. The passes provide visitors an affordable and convenient way to access Federal recreation lands. The pass program's proceeds are used to improve and enhance visitor recreation services. Two of the available passes—Interagency Access Pass and Interagency Senior Pass—require documentation and are the bases for this information collection.

The Interagency Access Pass is a free, lifetime pass issued to citizens or residents who are domiciled in the United States, regardless of age, and who have a medical determination and documentation of permanent disability. You can obtain an Access Pass in person, with proper documentation, from a participating Federal recreation site or office. Access Passes may also be obtained via mail order. Mail-order applicants for the Access Pass must submit a completed application, proof of residency, and documentation of permanent disability, and pay the document processing fee of $10 to obtain a pass through the mail.

If a person arrives at a recreation site and claims eligibility for the Interagency Access Pass, but cannot produce any documentation, that person must read, sign, and date a Statement of Disability Form in the presence of the agency officer issuing the Interagency Access Pass. If the applicant cannot read and/or sign the form, someone else may read, date, and sign the statement on his/her behalf in the applicant's presence and in the presence of the agency officer issuing the Interagency Access Pass.

The Interagency Senior Pass is a lifetime pass issued to U.S. citizens or permanent residents who are 62 years or older. There is a $10 fee for the Senior Pass. You can buy a Senior Pass in person from a participating Federal recreation site or office, online or by mail order. There is an additional document processing fee of $10 to obtain a Senior Pass online or through the mail. Online and mail-order applicants must submit a completed application and proof of residency and age, and pay $20 for the pass fee and processing fee.

Agency Web sites provide information on the passes and acceptable documentation. All documentation submitted in person, online or through the mail is returned to the applicant, removed from servers or destroyed.

II. Data

OMB Control Number: 1024-0252.

Title: The Interagency Access Pass and Senior Pass Application Processes.

Service Form Number(s): None.

Type of Request: Extension of a currently approved collection.

Description of Respondents: Individuals.

Respondent's Obligation: Required to obtain or retain a benefit.

Frequency of Collection: On occasion.

Activity | Number of respondents | Number of annual responses | Completion time per response | Total annual burden hours
Interagency Access Pass (in person) | 76,000 | 76,000 | 5 minutes | 6,333
Interagency Access Pass (by mail) | 4,000 | 4,000 | 10 minutes | 667
Interagency Senior Pass (online) | 5,000 | 5,000 | 10 Minutes | 833
Interagency Senior Pass (by mail) | 29,750 | 29,750 | 10 minutes | 4,958
Totals | 114,750 | 114,750 |  | 12,791

Estimated Annual Nonhour Burden Cost: $409,775. The estimated cost burden for applications submitted by mail (two photocopies and postage) is $0.66 per mail-in applicant, for a total of $22,275 ($0.66 × for 33,750 responses). In addition, there is a processing fee of $10.00 for each online and mail-in application, or a total of $387,500 ($10 × 38,750).

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: August 23, 2016.
Madonna L. Baucum,
Information Collection Clearance Officer, National Park Service.

[FR Doc. 2016-20602 Filed 8-26-16; 8:45 am]

BILLING CODE 4310-EH-P